DEPARTMENT OF ENERGY

Federal Energy Regulatory Commission

[Docket No. EL15-97-000]

Newark Energy Center, LLC; Notice of Institution of Section 206 Proceeding and Refund Effective Date

On September 11, 2015, the Commission issued an order in Docket No. EL15-97-000, pursuant to section 206 of the Federal Power Act (FPA), 16 U.S.C. 824e (2012), instituting an investigation into the justness and reasonableness of Newark Energy Center, LLC's Reactive Power Tariff. Newark Energy Center, LLC, 152 FERC ¶ 61,188 (2015).

The refund effective date in Docket No. EL15-97-000, established pursuant to section 206(b) of the FPA, will be the date of publication of this notice in the Federal Register.

Dated: September 11, 2015.
Nathaniel J. Davis, Sr.,
Deputy Secretary.

[FR Doc. 2015-23532 Filed 9-18-15; 8:45 am]

BILLING CODE 6717-01-P